DEPARTMENT OF COMMERCE

U.S. Census Bureau

Proposed Information Collection; Comment Request; The American Community Survey 2013 Content Changes and Internet Response Mode

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before February 27, 2012.

ADDRESSES: Direct all written comments to Diana Hynek, Departmental Paperwork Clearance Officer, Department of Commerce, Room 6616, 14th and Constitution Avenue NW., Washington, DC 20230 (or via the Internet at dHynek@doc.gov).

FOR FURTHER INFORMATION CONTACT: Requests for additional information or copies of the information collection instrument(s) and instructions should be directed to Cheryl Chambers, U.S. Census Bureau, American Community Survey Office, Washington, DC 20233 by FAX to (301) 763-8070 or via the internet at ACSO.communications@census.gov.

SUPPLEMENTARY INFORMATION

I. Abstract

The American Community Survey (ACS) collects detailed population and housing data every month and provides tabulations of these data on a yearly basis. In the past, the long-form data were collected only at the time of each decennial census. After years of development and testing, the ACS began full implementation in households in January 2005 and in group quarters (GQs) in January 2006.

The ACS provides more timely information for critical economic planning by governments and the private sector. In the current information-based economy, federal, state, tribal, and local decision makers, as well as private business and non-governmental organizations, need current, reliable, and comparable socioeconomic data to chart the future. In 2006, the ACS began publishing up-to-date profiles of American communities every year, providing policymakers, planners, and service providers in the public and private sectors this information every year—not just every ten years.

The ACS released estimates of population and housing characteristics for geographic areas of all sizes in December 2010. These data products, used by federal agencies and others, are similar in scope to the Summary File 3 tables from Census 2000.

In the 2010 ACS Content Test, the Census Bureau conducted testing of two new question topics—computer and Internet usage and parental place of birth—which we are considering adding to the questionnaire starting in 2013. As authorized by the Broadband Data Improvement Act of 2008, the Federal Communications Commission sponsored the computer and Internet usage topic; it is comprised of three questions with a mix of fixed choice and open-ended responses. The Census Bureau sponsored the parental place of birth topic; it includes two open-ended questions. The 2010 Content Test results for the two new topics were presented to the Office of Management and Budget (OMB) in September 2011. Reports describing these results will be made available publicly in early 2012.

The Census Bureau believes there is added value in collecting information about parental place of birth, though some may feel that this topic is somewhat duplicative when collected in connection with existing survey questions on race, Hispanic origin, and ancestry. Adding the parental place of birth questions to the questionnaire in 2013 would be done as part of a multi-year process to further examine the relationship of the data for these topics. The ACS data would also be evaluated in connection with results from the 2010 Census Alternative Questionnaire Experiment, and this combined research would be used in determining recommendations for which questions would remain on the ACS at the conclusion of this process. The Census Bureau plans to provide various opportunities for public comment as well as dialogue with groups that are especially interested in these data as we refine the plans and share results on this cross-topical research.

In the 2010 ACS Content Test, the Census Bureau also conducted testing on five existing question topics, veteran's status and period of service, food stamps, property income and wages which we are planning to incorporate into the survey starting in 2013. The Census Bureau revised the food stamp question, at the request of the Food and Nutrition Service, to incorporate the program name change to the Supplemental Nutrition Assistance Program (SNAP). The new version will be used in all collection modes. The Census Bureau revised the wage question to improve response on property income and reporting of wages by breaking up these questions into shorter pieces to improve comprehension when the questions are asked by an interviewer. This change will be incorporated into the Computer-assisted Telephone Interview (CATI) and Computer-assisted Personal Interview (CAPI) modes only. At the request of the Department of Veteran Affairs, the Census Bureau revised the veteran status and period of service questions to simplify the reporting categories. The new version will be used by all collection modes. The 2010 Content Test results for the five existing topics were presented to OMB in September 2011. Reports describing these results will be made available publicly in early 2012.

II. Method of Collection

The Census Bureau will mail survey materials to households selected for the ACS. For households that do not return a questionnaire, Census Bureau staff will attempt to conduct interviews via CATI. We will also conduct CAPI for a sub sample of nonrespondents. A content reinterview will be conducted from a small sample of respondents.

In 2011 the Census Bureau conducted two tests to assess the feasibility of providing an Internet response option to households that receive survey materials by mail. These tests evaluated various methods for providing an Internet response option. One option tested offering respondents the choice to respond by Internet or mail. Another method tested provided only instructions to respond online initially, and sent a follow-up paper questionnaire to households that did not respond online or did not have Internet access. Implementing an Internet response option may lead to cost savings for administering the ACS as well as improvements in the quality of the data provided. Depending on the results of the 2011 tests, the Census Bureau is considering implementing an Internet response option for the ACS in 2013. Reports describing the results of the April 2011 test will be made available publicly in early 2012.

For most types of GQs, Census Bureau field representatives (FRs) will conduct personal interviews with respondents to complete questionnaires or, if necessary, leave questionnaires and ask respondents to complete. Information from GQ contacts will be collected via CAPI. A GQ contact reinterview will be conducted from a sample of GQs primarily through CATI. A very small percentage of the GQ reinterviews will be conducted via CAPI.

The Census Bureau staff will provide Telephone Questionnaire Assistance (TQA) and if the respondent indicates a desire to complete the survey by telephone, the TQA interviewer conducts the interview.

III. Data

OMB Control Number: 0607-0810.

Form Number: ACS-1, ACS-1(SP), ACS-1(PR), ACS-1(PR)SP, ACS-1(GQ), ACS-1(PR)(GQ), GQFQ, ACS CATI (HU), ACS CAPI (HU), ACS RI (HU), and AGQ QI, AGQ RI.

Type of Review: Regular submission.

Affected Public: Individuals, households, and businesses.

Estimated Number of Respondents: We plan to contact the following number of respondents each year: 3,540,000 households; 200,000 persons in group quarters; 20,000 contacts in group quarters; 43,000 households for reinterview; and 1,500 group quarters contacts for reinterview.

Estimated Time Per Response: Estimates are 38 minutes per household, 15 minutes per group quarters contact, 25 minutes per resident in group quarters, and 10 minutes per household or GQ contact in the reinterview samples.

Estimated Total Annual Burden Hours: The estimate is an annual average of 2,337,900 burden hours.

Estimated Total Annual Cost: Except for their time, there is no cost to respondents.

Respondent's Obligation: Mandatory.

Legal Authority: Title 13, United States Code, Section 141, 193, 221.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 22, 2011
Glenna Mickelson,
Management Analyst, Office of the Chief Information Officer.

[FR Doc. 2011-33269 Filed 12-27-11; 8:45 am]

BILLING CODE 3510-07-P